DEPARTMENT OF THE TREASURY

Alcohol and Tobacco Tax and Trade Bureau

27 CFR Part 9

[Docket No. TTB-2008-0005; T.D. TTB-72; Re: Notice No. 85]

RIN 1513-AB47

Expansion of the Paso Robles Viticultural Area (2008R-073P)

AGENCY: Alcohol and Tobacco Tax and Trade Bureau, Treasury.

ACTION: Final rule; Treasury decision.

SUMMARY: This Treasury decision expands by 2,635 acres the existing 609,673-acre Paso Robles American viticultural area in San Luis Obispo County, California. The expanded Paso Robles viticultural area lies entirely within San Luis Obispo County and the multicounty Central Coast viticultural area. We designate viticultural areas to allow vintners to better describe the origin of their wines and to allow consumers to better identify wines they may purchase.

DATES: Effective Dates: February 20, 2009.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Petitioners may use the same procedure to request changes involving existing viticultural areas. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features that distinguish the proposed viticultural area from surrounding areas;

• A description of the specific boundary of the proposed viticultural area, based on features found on the United States Geological Survey (USGS) maps; and

• A copy of the appropriate USGS map(s) with the proposed viticultural area's boundary prominently marked.

Paso Robles Expansion Petition

Background

Previous Petitions

On October 4, 1983, the Bureau of Alcohol, Tobacco and Firearms (ATF) published a final rule, T.D. ATF-148 (48 FR 45239), to establish the “Paso Robles” American viticultural area (AVA) in northern San Luis Obispo County, California (see 27 CFR 9.84). As established, the Paso Robles AVA was entirely within the Central Coast AVA (27 CFR 9.75) and, to the west, it bordered the much smaller York Mountain AVA (27 CFR 9.80). In 1983, the Paso Robles AVA contained approximately 5,000 acres of vineyards.

As established, the Paso Robles AVA was defined by the San Luis Obispo-Monterey county line in the north, the Cholame Hills to the east, and the Santa Lucia Mountains to the south and west. According to T.D. ATF-148, the Santa Lucia Mountains largely protect the Paso Robles AVA from the intrusion of marine air and fog from the Pacific Ocean, giving the Paso Robles AVA a drier and warmer summertime climate than regions to the west and south. However, in T.D. ATF-216 establishing the Central Coast AVA, 50 FR 43128 (October 24, 1985), ATF recognized that there was, to a lesser degree, marine influence on the climate in Paso Robles. The Paso Robles AVA also is characterized by day to night temperature changes of 40 to 50 degrees, annual rainfall of 10 to 25 inches, 600 to 1,000 foot elevations, and well-drained, alluvial soils in terrace deposits.

Lacking a feasible way to use physical features, such as ridge lines, to define the boundary of the Paso Robles AVA, the original petitioner largely used a series of township and range lines and point-to-point lines to delineate the AVA's boundary. The southernmost portion of the Paso Robles AVA was delineated to the south by the east-west T29S/T30S township boundary line and to the east by the north-south R13E/R14E range line.

On June 13, 1996, ATF published a final rule, T.D. ATF-377 (61 FR 29952), expanding the Paso Robles AVA along a portion of its western boundary. This expansion added approximately 52,618 acres of land similar to that contained in the original AVA. The expansion added to the AVA seven vineyards containing 235 acres of grapes planted after the 1983 establishment of the Paso Robles AVA. The Paso Robles AVA, as expanded, remained entirely within San Luis Obispo County and the Central Coast AVA, and this westerly expansion did not extend into the York Mountain AVA or change the AVA's original southern boundary.

Current Southern Expansion Petition

In 2007, the Paso Robles AVA Committee (PRAVAC) submitted a petition to TTB requesting a 2,635-acre expansion of the Paso Robles AVA. The petition states that the PRAVAC represents a broad cross section of the Paso Robles wine industry and notes that its 59 grape grower and winery members collectively own or manage over 10,000 acres of vineyards within the Paso Robles AVA.

The proposed expansion area is immediately south of the current southernmost boundary of the Paso Robles AVA, which boundary is delineated by the T29S/T30S township line, as shown on the 1:250,000-scale USGS San Luis Obispo map used to define the AVA's boundary. As noted in the petition, the Paso Robles AVA's current southernmost boundary line bisects the southern portion of the Santa Margarita Valley, leaving a significant portion of the valley's southern end outside the AVA boundary as currently defined. The proposed expansion would, therefore, bring most of the remainder of the Santa Margarita Valley within the AVA, as shown on the 1:24,000 USGS Lopez Mountain map submitted with the petition. (TTB notes that, while not used to formally define the AVA's boundary in the proposed regulatory text, the Lopez Mountain map provides significantly more geographical detail regarding the expansion area due to its smaller scale.)

The proposed southern expansion also lies totally within San Luis Obispo County and the existing Central Coast AVA, and it would not overlap or otherwise affect any other established or currently proposed new AVA. According to the petition, the distinguishing features of the proposed expansion area, including its geological history, geomorphology, soils, topography, and climate, are similar to those found in the southern region of the original Paso Robles AVA.

Name Evidence

The petition states that the “Paso Robles” geographical name applies to the proposed southern expansion of the Paso Robles AVA due to the historic, geographic, commercial, and cultural ties between the Santa Margarita Valley and the Paso Robles region of San Luis Obispo County. These ties resulted from the northward orientation of the valley, which is enclosed to the south and west by the Santa Lucia Mountains. Historically, travel was easier going northward through the valley to the city of Paso Robles than it was going southward over the mountains to the city of San Luis Obispo. The petition also states that, because of the stated historic and other ties, local residents and members of the Paso Robles wine industry have assumed that the entire Santa Margarita Valley was within the original Paso Robles AVA boundary line and have referenced the area as such.

According to the petition, other sources also show the entire Santa Margarita Valley as falling within the Paso Robles region. For example, the Paso Style Living real estate Web site (http://www.pasostyleliving.com/pages/pasoarea.htm) describes the Santa Margarita area as “the Southern edge of Paso wine country.” A 1928 soil survey map of the Paso Robles area submitted with the petition also shows the entire Santa Margarita Land Grant as being within the Paso Robles region. In addition, the “1978 General Soil Map of the Paso Robles Area—San Luis Obispo County,” published by the U.S. Department of Agriculture, Soil Conservation Service, University of California Agricultural Experiment Station, includes the proposed Paso Robles AVA expansion area within the Paso Robles region of the county.

Boundary Evidence

The proposed triangle-shaped expansion of the Paso Robles AVA would move its southernmost point approximately 2.6 miles south to encompass most of that portion of the Santa Margarita Valley currently not included within the AVA. Also, the proposed expansion area would lengthen by the same distance the portion of the eastern boundary commonly shared by the Paso Robles and Central Coast AVAs.

The petition describes the proposed expansion area as part of the “cohesive geographical unit” of the Santa Margarita Valley. Nestled between the Santa Lucia Range and the Salinas River, the Santa Margarita Valley lies on both sides of the existing southern boundary line of the Paso Robles AVA. The petition describes the southernmost boundary line of the original Paso Robles AVA, which boundary line follows the T29S/T30S township line and bisects the Santa Margarita Valley, as an “imaginary, indiscernible boundary in the landscape, not defined by any topographic or other environmental parameters.”

As explained in T.D. ATF-148, the Paso Robles AVA is bounded on the west and south by the Santa Lucia Mountain range. The proposed southern expansion, the petition explains, would more closely align the southernmost boundary of the Paso Robles AVA with the Santa Lucia Range by encompassing most of the portion of the Santa Margarita Valley that is currently outside the AVA. The petition explains that beyond the proposed expansion area to the south is the narrowed terminus of the Santa Margarita Valley, with steep terrain on three sides and inadequate groundwater and warmth to sustain commercial viticulture.

According to the petition, the viticultural history of the Santa Margarita Valley began with the arrival of Spanish missionaries, who, among other things, brought grapes and winemaking to the Paso Robles area over 200 years ago. Near present-day Santa Margarita, the missionaries built the Santa Margarita de Cortona Asistencia in 1787, which functioned as an outpost of the mission located at San Luis Obispo and which served as a chapel, farmstead, and storehouse for grain grown in the valley. See page 39 of the “History of San Luis Obispo County, California, with Illustrations and Biographical Sketches of its Prominent Men and Pioneers,” by Myron Angel, Thompson & West, 1883, reprinted by Howell-North Books, 1966, which was included with the petition.

According to the Angel publication, in 1861 the land surrounding the Asistencia site was purchased by Mary and Martin Murphy, who also owned portions of other land grants within the Paso Robles region. Under their ownership, the petition states, the Santa Margarita area developed a strong attachment to the more commercialized Paso Robles area to its north. By 1889, the petition explains, an extension of the Southern Pacific Railroad ran south from Paso Robles along the Salinas River to the small settlement of Santa Margarita. See pages 34 and 75 of “Rails Across the Ranchos,” by Loren Nicholson, Valley Publishers, 1993. The USGS San Luis Obispo regional map shows the Southern Pacific Railway running south from the city of Paso Robles across the relatively flat valley to the town of Santa Margarita, where it begins a twisting climb up and over the Santa Lucia Mountains to the city of San Luis Obispo.

In 2000, the petition explains, the Robert Mondavi Winery leased more than 1,000 acres in the southern Santa Margarita Valley for commercial vineyard development. This acreage is bisected by the current southernmost boundary of the Paso Robles AVA. At the time of the petition, vineyards covered 800 of the 1,000 acres, with plantings located on both sides of the existing Paso Robles AVA boundary line, according to the petition.

Distinguishing Features

The proposed expansion of the Paso Robles AVA relies on the Santa Margarita Valley's uniform topography, climate, soils, geologic history, and geomorphology. These geographical features, the petition notes, are the same throughout the valley, which is currently bisected by the southernmost boundary line of the existing Paso Robles AVA. The Santa Margarita Valley, which makes up the portion of the Salinas River Valley containing Santa Margarita and Rinconada Creeks, extends south from the city of Atascadero, through the town of Santa Margarita, and continues south-southeastward through the proposed expansion area, according to the USGS San Luis Obispo regional map and the petition.

Professor Deborah L. Elliott-Fisk, Ph.D, of the University of California, Davis, an expert on the geography and terroir of California and viticultural area designations, researched and provided the data for the distinguishing features discussed in the petition. According to the petition, Dr. Elliott-Fisk also coordinated the data and analyses supplied by meteorologist Donald Schukraft, Western Weather Group, LLC, and other experts.

Climate

The climate of the Paso Robles AVA as a whole, according to Dr. Elliott-Fisk, has smaller monthly temperature ranges and less continental influence than the inland areas further to the east, but is less influenced by Pacific marine air and fog than the coastal regions to the west due to the blocking effect of the Santa Lucia Mountains. As part of the larger Paso Robles region, the Santa Margarita Valley has climatic conditions similar to the Paso Robles AVA, Dr. Elliott-Fisk notes, and these conditions exist on both sides of the existing southernmost boundary of the AVA, which passes from west to east through the valley. Dr. Elliott-Fisk adds that other climate similarities found within the valley on either side of the existing AVA boundary include cold air drainage, cold air ponding under temperature inversions, and similar frost patterns, especially early in the growing season. Also, annual precipitation in the valley averages 29 inches, while regions to the east are drier and the coastal mountains to the west are wetter.

These climatic similarities also are evidenced by various climate classification systems. For example, the petition states, the global scale climate classification system of Koppen, Geiger and Pohl (1953) labels the great majority of the Paso Robles region as a Mediterranean warm summer climate (Csb), while the region to the east has a Mediterranean hot summer climate (Csa).

Dr. Elliott-Fisk states that the climate of the Santa Margarita Valley is classified as a cool region II climate of approximately 2,900 degree days under the Winkler climate classification system, which is based on the heat accumulation during the growing season. This classification is found on both sides of the existing southernmost Paso Robles AVA boundary. (As a measurement of heat accumulation during the growing season, 1 degree day accumulates for each degree Fahrenheit that a day's mean temperature is above 50 degrees, which is the minimum temperature required for grapevine growth. In the Winkler system, climatic region I has less than 2,500 degree days per year; region II, 2,501 to 3,000; region III, 3,001 to 3,500; region IV, 3,501 to 4,000; and region V, 4,001 or more. See pages 61-64 of “General Viticulture,” by Albert J. Winkler, University of California Press, 1974.)

Regarding the southern end of the Santa Margarita Valley that lies beyond the proposed expansion, Dr. Elliott-Fisk explains that the steep topography east, south, and west of the narrow valley floor causes increases in relief precipitation and evening settling of cold, dense air at the valley's terminus. Local farmers, the petition explains, state that air temperatures at the far southern end of the valley are too cold to produce quality wine grapes.

Geology

The geological features that characterize the southern region of the Paso Robles AVA continue across the southernmost boundary line of the viticultural area and are found throughout the Santa Margarita Valley, including the proposed expansion area. Dr. Elliott-Fisk explains that the Salinas River originally formed the Santa Margarita Valley through a process of soil erosion and deposition, while the complex faulting of the Santa Lucia Range formed a graben basin that extends along the valley floor and crosses the existing Paso Robles AVA southernmost boundary line. Later, Dr. Elliott-Fisk notes, the Salinas River carved a new channel to the east through the soft Monterey Formation shales along the Rinconada Fault as the San Andreas Fault zone became more active. Rinconada Creek, a primary tributary of the Salinas River in the Santa Margarita Valley area, then deposited a series of broad alluvial fans and terraces across the older Salinas River alluvial fill, Dr. Elliott-Fisk explains. She notes that these alluvial terraces extend north and south of the current Paso Robles AVA boundary line and exist throughout the proposed expansion area.

To the east, south, and west of the proposed Paso Robles AVA expansion, Dr. Elliott-Fisk explains, the geology of the landscape is unsuitable for commercial production of wine grapes. She states that, to the east, granitic rocks on the mountainsides make the area difficult to farm, and the weathering and failure of near-surface rock make road building difficult. Also, to the south, and at the narrowed southern terminus of the Santa Margarita Valley, Franciscan conglomerate rock underlies the shallow alluvium creating an environment lacking in adequate groundwater. To the west, the landscape includes massive units of the late Cretaceous Franciscan and Great Valley formations, consisting of hard marine sandstones and conglomerates on steep mountain slopes, making the terrain unsuitable for viticulture.

Soils

Similar soils exist on both sides of the current Paso Robles AVA southern boundary line, according to the current USDA soil survey for the Paso Robles Area of San Luis Obispo County (Lindsey, 1978). Climate, parent material, topography, and time, Dr. Elliott-Fisk states, all contribute to the soil type similarities that extend the length of the Santa Margarita Valley. The soils of the Santa Margarita Valley, Dr. Elliott-Fisk explains, include the deep gravelly loam soils of late mid-Quaternary age, grading into shallower clay loam soils against bedrock on the hillsides. Also, younger alluvial deposits dominate the flood plains of the valley's creeks.

The soils and terrain to the south, east, and west of the proposed southern expansion of the Paso Robles AVA are, however, unsuitable for commercial viticulture, Dr. Elliott-Fisk explains. To the south, the soils of the valley floor include clay loams with low water permeability, high water capacity, and moderate shrink-swell potential, while the mountain slopes to the east and west have a shallow topsoil, small rooting zones for grapevines, and an erosion potential, making those areas unsuitable for viticulture.

Evidence Summary

The PRAVAC petition, including Dr. Elliott-Fisk's discussion of the proposed expansion area's distinguishing features and a detailed letter from vineyard developer and manager Neil Roberts, emphasizes that similar geological, geographical, and climatic conditions extend through the Santa Margarita Valley, which encompasses a portion of the existing Paso Robles AVA as well as the proposed expansion area. The landforms, topography, and geology features that form the Santa Margarita Valley, the petition explains, are similar both north and south of the existing Paso Robles AVA southernmost boundary line. Also, the valley's climate, as reflected by Winkler's degree-day values, and its soil types, as documented in the 1978 USDA soil survey for the Paso Robles Area of San Luis Obispo County, show strong similarities on both sides of the current Paso Robles AVA southernmost boundary line. The petition adds that vineyards are farmed the same way north and south of the current Paso Robles AVA boundary line through the valley and that these vineyards grow the same varietals.

Notice of Proposed Rulemaking and Comments Received

TTB published Notice No. 85 regarding the proposed expansion of the Paso Robles viticultural area in the Federal Register (73 FR 40474) on July 15, 2008. In that notice, TTB invited comments by September 15, 2008, from all interested persons. We expressed particular interest in receiving comments concerning the similarity of the proposed expansion area to the currently existing Paso Robles viticultural area.

TTB received eight comments in response to Notice No. 85. Seven of the comments supported the expansion of the Paso Robles viticultural area as proposed. One commenter, Justin Kahler, supported a southern expansion of the Paso Robles viticultural area, but disagreed with the eastern portion of the proposed new boundary line.

Mr. Kahler requested that the proposed expansion of the Paso Robles viticultural area continue eastward approximately 2.5 miles generally along Las Pilitas Road, incorporating sections 6, 5, 4, and 33, Township 30 South and Range 14 East, of the Lopez Mountain and Santa Margarita Lake USGS quadrangle maps. Mr. Kahler stated in his request that the additional expansion area was entirely within the multi-county Central Coast viticultural area. Upon review of Mr. Kahler's request for an expansion larger than originally proposed for the Paso Robles viticultural area, TTB found that the additional area that Mr. Kahler proposed extends eastward beyond the Central Coast viticultural area boundary line. In contrast, the current Paso Robles viticultural area and the southern expansion area covered by the PRAVAC petition are entirely within the Central Coast viticultural area. Moreover, the eastern boundary line of the PRAVAC-proposed southern expansion area shares a portion of, but does not cross over, the eastern boundary line of the Central Coast viticultural area.

TTB notes that in the final rule that established the Central Coast viticultural area, T.D. ATF-216, the “Geographical Features Which Affect Viticultural Features” section states that “the eastern boundary of the Central Coast viticultural area is drawn at the approximate inland limit of the marine influence on climate.” This finding regarding the Central Coast AVA is relevant because it also addressed the Paso Robles viticultural area within it. T.D. ATF-216 explains that the marine influence traveling south from Monterey Bay, through the Salinas River Valley, reaches the Paso Robles area but to a lesser degree. Thus, the Paso Robles area is still under marine influence and possesses microclimates characteristic of coastal valleys, especially in comparison to areas that are farther inland (such as the area identified by Mr. Kahler in his request to further expand the Paso Robles AVA).

In his comment and request on this proposed rulemaking action, Mr. Kahler did not address the issue that his proposed further expansion area extends beyond the current boundary of the Central Coast viticultural area and outside the determined approximate inland limit of the marine influence on climate. Thus, TTB has concluded, after careful consideration, that it does not have sufficient information to establish the eastward expansion requested by Mr. Kahler in this final rule. Such expansion may be the subject of a future rulemaking action.

TTB Finding

After careful review of the petition and comments received, TTB finds that the evidence submitted supports the expansion of the viticultural area as proposed by the PRAVAC. Therefore, under the authority of the Federal Alcohol Administration Act and part 4 of our regulations, we amend our regulations to expand the Paso Robles viticultural area in San Luis Obispo County, California, effective 30 days from the publication date of this document.

Boundary Description

See the modified narrative boundary description reflecting the expanded viticultural area in the regulatory text amendment published at the end of this document.

Maps

The petitioner provided the required map pertaining to the expansion, and we list it below in the amended regulatory text.

Impact on Current Wine Labels

The expansion of the Paso Robles viticultural area does not affect any currently approved wine labels. The approval of this expansion may allow additional vintners to use “Paso Robles” as an appellation of origin on their wine labels. Part 4 of the TTB regulations prohibits any label reference on a wine that indicates or implies an origin other than the wine's true place of origin. For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). Different rules apply if a wine has a brand name containing a viticultural area name or other viticulturally significant term that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866. Therefore, it requires no regulatory assessment.

Drafting Information

N.A. Sutton of the Regulations and Rulings Division drafted this notice.

List of Subjects in 27 CFR Part 9

Wine.

The Regulatory Amendment

For the reasons discussed in the preamble, we amend title 27 CFR, chapter 1, part 9, as follows:

PART 9—AMERICAN VITICULTURAL AREAS

1. The authority citation for part 9 continues to read as follows:

Authority: 27 U.S.C. 205.

Subpart C—Approved American Viticultural Areas

2. Section 9.84 is amended by revising paragraphs (b), (c)(7), and (c)(8), redesignating paragraphs (c)(9) and (c)(10) as (c)(10) and (c)(11), and adding a new paragraph (c)(9). The revisions and addition read as follows:

§ 9.84 Paso Robles.

* * * * *

(b) Approved Map. The appropriate map for determining the boundary of the Paso Robles viticultural area is the United States Geological Survey 1:250,000-scale map of San Luis Obispo, California, 1956, revised 1969, shoreline revised and bathymetry added 1979.

(c) Boundaries. * * *

* * * * *

(7) Then in an easterly direction along the T.29S. and T.30S. line for approximately 3.1 miles to its intersection with the eastern boundary line of the Los Padres National Forest;

(8) Then in a southeasterly direction along the eastern boundary line of the Los Padres National Forest for approximately 4.1 miles to its intersection with the R.13E. and R.14E. line;

(9) Then in a northerly direction along the R.13E. and R.14E. line for approximately 8.7 miles to its intersection with the T.28S. and T.29S. line;

* * * * *

Dated: December 5, 2008.
John J. Manfreda,
Administrator.
Approved: December 16, 2008.
Timothy E. Skud,
Deputy Assistant Secretary (Tax, Trade, and Tariff Policy).

[FR Doc. E9-994 Filed 1-16-09; 8:45 am]

BILLING CODE 4810-31-P